ENVIRONMENTAL PROTECTION AGENCY

[FRL-6933-6]

Agency Information Collection Activities: Proposed Collection; Comment Request; Impact of Formal Environmental Policy Statements on the Teaching, Research and Operations of Colleges and Universities

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): “Impact of Formal Environmental Policy Statements on the Teaching, Research and Operations of Colleges and Universities”; EPA ICR #2013.01. Before submitting the ICR to OMB for review and approval, EPA is soliciting comments on specific aspects of the proposed information collection as described below.

DATES: Comments must be submitted on or before March 20, 2001.

ADDRESSES: Office of Enforcement and Compliance, EPA Region 10, 1200 6th Ave. (MS OEC-164), Seattle, WA 98101. Interested persons may obtain a copy of the ICR without charge; to do so, see the following Further Information Contact section.

FOR FURTHER INFORMATION CONTACT: Clark L. Gaulding; Academic Program Manager and Senior Policy Advisor; (206) 553-1849; fax (206) 553-7176. E-mail at <gaulding.clark@epa.gov>

SUPPLEMENTARY INFORMATION: Affected entities: Entities potentially affected by this action are institutions providing college or university education leading to bachelors and graduate degrees.

Title: “Impact of Formal Environmental Policy Statements on the Teaching, Research and Operations of Colleges and Universities”; EPA ICR #2013.01.

Abstract: Many universities and colleges have adopted formal statements of environmental policy, and more are being adopted all the time. This is probably good, but little is known about the impacts that these statements have on the actual behavior of our academic institutions. Do they make a difference, and, if so, how? Where's the evidence? Is articulated environmental policy a prophesy of future behavior at the schools that adopt them, or is it rhetoric, however well intended?

This survey study is intended to develop some possible answers to these questions. Written surveys and selected follow-up interviews will be conducted on a representative number of the approximately 4,000 campuses across the U.S. Part of the inquiry is statistical in nature; how many schools have a formal policy on the environment, and how many do not; does it make a difference whether the school is public or private, large or small, urban or rural? Does region make a difference? Of the schools with policies, when were they adopted and is there a trend? Finally, can anything be made of the numbers?

Beyond the numbers, the survey, and especially the interviews, will focus on (1) substance and (2) impact. A random cross-section of written policy statements will be analyzed in comparative fashion to understand not only who wrote them, but what topics they literally address (especially, teaching, research and operations) and what tone they impart (especially, how purely philosophical or action-oriented are they).

The impact of articulated environmental policy on institutional behavior will be weighed in two ways. The institutions themselves will be asked to explain and document the impacts across the full range of university activities. In parallel, EPA data will be used to look at environmental compliance at schools both with and without written policy to see whether there is any inferential relationship. Response to the study will be voluntary, and results will be reported in statistical fashion rather than with reference to any particular school. The analytical information and conclusions resulting from this study will be useful to academic institutions as they consider their role and responsibility toward society with respect to the natural environment, and to EPA in its policy deliberations regarding its relationship with higher education as an important element of society.

An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden statement: Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

There are two elements to this proposed study: a written survey questionnaire and a follow-up interview for a selected sub-set of those responding to the questionnaire. Using the burden definition above, it is estimated that the total hour burden for an institution to respond to the written survey questionnaire will be between five (5) and fifteen (15) hours depending on the size and organization of the respondent institution. The hour burden for an institution to participate in a follow-up interview is estimated not to exceed two (2) hours. It is not expected that any institution will incur any capital or recurring costs to participate in the study. Therefore, the dollar cost burden of participation will be directly related to the hour burden and the wage or salary rate of the individuals who handle the response at each institution.

Dated: January 8, 2001.
Lauris Davies,
Director, Office of Enforcement and Compliance, Region 10.

[FR Doc. 01-1345 Filed 1-18-01; 8:45 am]

BILLING CODE 6560-50-P